DEPARTMENT OF THE INTERIOR

Bureau of Land Management

[LLORV00000.L10200000.XZ0000.LXSSH1060000.212.HAG 21-0032]

Notice of Public Meetings for the John Day-Snake Resource Advisory Council Planning Subcommittee, Oregon

AGENCY: Bureau of Land Management, Interior.

ACTION: Notice of public meetings.

SUMMARY: In accordance with the Federal Land Policy and Management Act of 1976 and the Federal Advisory Committee Act of 1972, the U.S. Department of the Interior, Bureau of Land Management's (BLM) John Day-Snake Resource Advisory Council (RAC) Planning Subcommittee will meet as follows:

DATES: The John Day-Snake RAC Planning Subcommittee will meet at 6:30 p.m. Pacific Time (PT), Wednesday, June 9, 2021, and Wednesday, Sept. 15, 2021, via Zoom conference. A public comment period will be offered during each meeting at 7:35 p.m. PT.

ADDRESSES: The Subcommittee Zoom meeting details will be published on the RAC web page at least 10 days in advance of the meetings at https://www.blm.gov/get-involved/resource-advisory-council/near-you/oregon-washington/john-day-rac.

A final agenda will be posted online at the RAC web page at least 1 week prior to the meeting.

The public may send written comments to the subcommittee and RAC in response to material presented. Comments can be mailed to: BLM Vale District; Attn. Shane DeForest; 100 Oregon St., Vale, OR 97918.

FOR FURTHER INFORMATION CONTACT: Larisa Bogardus, Public Affairs Officer, 3100 H St., Baker City, OR 97814; telephone: 541-219-6863; email: lbogardus@blm.gov. Persons who use a telecommunications device for the deaf (TDD) may call the Federal Relay Service (FRS) at 1 (800) 877-8339 to contact Larisa. The FRS is available 24 hours a day, 7 days a week, to leave a message or question. You will receive a reply during normal business hours.

SUPPLEMENTARY INFORMATION: The 15-member John Day-Snake RAC was chartered and members appointed by the Secretary of the Interior. Its diverse perspectives are represented in commodity, conservation, and general interests. It provides advice to BLM and, as needed, U.S. Forest Service resource managers regarding management plans and proposed resource actions on public land in the John Day-Snake area.

The Planning Subcommittee was established to gather information, conduct research, and analyze relevant issues and facts on selected topics for future consideration by the RAC. The Subcommittee's primary goal is to provide information to the RAC members that allows them to better respond to time-sensitive issues, such as responding to an environmental document within the public comment period. No decisions are made at the subcommittee level.

Meetings are open to the public in their entirety. Agenda items include review of recreation fee proposals for the Wallowa-Whitman, Malheur, and Deschutes National Forests. Depending on the number of people wishing to comment and the time available, the amount of time for oral comments may be limited. The public may send written comments to the Subcommittee and RAC (see ADDRESSES section).

The Designated Federal Officer will attend the call, take minutes, and publish detailed meeting minutes on the RAC web page (see the ADDRESSES section earlier).

Before including your address, phone number, email address, or other personal identifying information in your comments, please be aware that your entire comment—including your personal identifying information—may be made publicly available at any time. While you can ask us in your comment to withhold your personal identifying information from public review, we cannot guarantee we will be able to do so.

(Authority: 43 CFR 1784.4-2)

Jason Simmons,
Acting Vale District Manager.

[FR Doc. 2021-09623 Filed 5-6-21; 8:45 am]

BILLING CODE 4310-33-P